COMMISSION ON CIVIL RIGHTS

Notice of Public Meeting of the New Mexico Advisory Committee

AGENCY: U.S. Commission on Civil Rights.

ACTION: Announcement of meeting.

SUMMARY: Notice is hereby given, pursuant to the provisions of the rules and regulations of the U.S. Commission on Civil Rights and the Federal Advisory Committee Act (FACA) that a meeting of the New Mexico Advisory Committee will be held from 1:00 p.m. to 4:00 p.m. (Mountain Time) on Tuesday, June 28, 2019. The purpose of the meeting is for the Committee to hear expert briefing testimony on wage-related issues in the state.

DATES: The meeting will be held on Friday, June 28, 2019, from 1:00 p.m. to 4:00 p.m. Mountain Time. Location: University of New Mexico School of Law, Room 2403, 1117 Stanford Drive NE, Albuquerque, NM 87106.

FOR FURTHER INFORMATION CONTACT: Alejandro Ventura at aventura@usccr.gov or (213) 894-3437.

SUPPLEMENTARY INFORMATION: This meeting is free and open to the public. Persons with disabilities requiring reasonable accommodations should contact the Western Regional Office at least 7 days prior to the meeting to make appropriate arrangements. Members of the public are invited to make statements during an open comment period, beginning at 2:30 p.m. In addition, members of the public may submit written comments; the comments should be received in the regional office within 30 days following the meeting. Written comments may be mailed to the Western Regional Office, U.S. Commission on Civil Rights, 300 North Los Angeles Street, Suite 2010, Los Angeles, CA 90012. They may be faxed to the Commission at (213) 894-0508, or emailed to Alejandro Ventura at aventura@usccr.gov. Persons who desire additional information may contact the Regional Programs Unit at (213) 894-3437.

Records and documents discussed during the meeting will be available for public viewing prior to and after the meeting at https://www.facadatabase.gov/FACA/FACAPublicViewCommitteeDetails?id=a10t0000001gzlGAAQ.

Please click on “Committee Meetings” tab. Records generated from this meeting may also be inspected and reproduced at the Regional Programs Unit, as they become available, both before and after the meeting. Persons interested in the work of this Committee are directed to the Commission's website, http://www.usccr.gov, or may contact the Regional Programs Unit at the above email or street address.

Agenda

I. Welcome and Roll Call

II. Briefing on Wage-Related Issues in New Mexico

a. Amber Fayerberg and/or Richard Branch, New Mexico Department of Workforce Solutions

b. Serge Martinez, University of New Mexico School of Law

c. Stephanie Welch, New Mexico Center on Law and Poverty

III. Question and Answer Session with Panelists

IV. Public Comments

V. Committee Planning Discussion of Wage Study and Next Steps

VI. Adjournment

Dated: June 10, 2019.
David Mussatt,
Supervisory Chief, Regional Programs Unit.

[FR Doc. 2019-12520 Filed 6-13-19; 8:45 am]

BILLING CODE P